DEPARTMENT OF COMMERCE

National Oceanic and Atmospheric Administration

[I.D. 050306B]

Western Pacific Regional Fishery Management Council; Public Meeting

AGENCY: National Marine Fisheries Service (NMFS), National Oceanic and Atmospheric Administration (NOAA), Commerce.

ACTION: Notice of a public meeting.

SUMMARY: The Western Pacific Regional Fishery Management Council's (Council) Scientific and Statistical Committee (SSC) will hold its 92nd meeting.

DATES: The meeting will convene on Tuesday, May 30, 2006 through Thursday, June 1, 2006. The meeting will be held between 8:30 a.m. and 5 p.m. each day.

ADDRESSES: The SSC meeting will be held at the Council Office Conference Room, 1164 Bishop St., Suite 1400, Honolulu, HI; telephone: (808) 522-8220.

FOR FURTHER INFORMATION CONTACT: Kitty M. Simonds, Executive Director; telephone: (808) 522-8220.

SUPPLEMENTARY INFORMATION:

Tuesday, May 30, 2006, 8:30 a.m.

1. Introductions

2. Approval of Draft Agenda and Assignment of Rapporteurs

3. Approval of the Minutes of the 91st Meeting

4. Insular Fisheries

A. Bottomfish and Seamount Groundfish Issues

1. Report on Hawaii Monitoring and Research Plan

2. Update on Bottomfish Stock Assessment

3. Plan Team Recommendations

B. Precious Corals

1. Draft Report on Black Coral Workshop

2. Plan Team Report

C. Public Comment

D. Discussion and Recommendations

5. Ecosystem and Habitat

A. Northwestern Hawaiian Islands (NWHI) Fishing Regulations (ACTION ITEM)

B. Public Comment

C. Discussion and Recommendations

Wednesday, May 31, 2006, 8:30 a.m.

6. Protected Species

A. 26th Sea Turtle Symposium

B. Public Comment

C. Discussion and Recommendations

7. Pelagic Fisheries

A. American Samoa and Hawaii Longline 2005 Reports

B. Bigeye-Yellowfin Overfishing Measures (ACTION ITEM)

C. Options for Swordfish Seasonal Closure (ACTION ITEM)

D. International Fisheries

a. International Scientific Committee

b. SPC Heads of Fisheries Meeting

c. Inter-American Tropical Tuna Commission (IATTC) Annual Meeting

d. WCPFC Scientific Committee

e. Council South Pacific Albacore Workshop

E. Shark Bycatch in Longline Fisheries

F. Public Comment

G. Discussion and Recommendations

Thursday, June 1, 2006, 8:30 a.m.

8. Other Business

A. 93rd SSC meeting - Paul Callaghan

9. Summary of SSC Recommendations to the Council

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 11, 2006.
Tracey L. Thompson,
Acting Director, Office of Sustainable Fisheries, National Marine Fisheries Service.

[FR Doc. E6-7425 Filed 5-15-06; 8:45 am]

BILLING CODE 3510-22-S